DEPARTMENT OF HOUSING AND URBAN DEVELOPMENT

[Docket No. FR-5121-15]

Notice of Submission of Proposed Information Collection to OMB; Application for Insurance of Advance of Mortgage Proceeds

AGENCY: Office of the Assistant Secretary for Housing—Federal Housing Commissioner, HUD.

ACTION: Notice.

SUMMARY: The proposed information collection requirement described below has been submitted to the Office of Management and Budget (OMB) for review, as required by the Paperwork Reduction Act. The Department is soliciting public comments on the subject proposal.

DATES: Comments Due Date: June 1, 2007.

ADDRESSES: Interested persons are invited to submit comments regarding this proposal. Comments should refer to the proposal by name and/or OMB approval Number (2502-0097) and should be sent to: Lillian Deitzer, Reports Management Officer, Department of Housing and Urban Development, 451 7th Street, SW., Room 4178, Washington, DC 20401 or Lillian_Deitzer@hud.gov.

FOR FURTHER INFORMATION CONTACT: Richard Shearin, Appraiser, Office of Multifamily Housing Development, Department of Housing and Urban Development, 451 Seventh Street, SW., Washington, DC 20410; e-mail Richard_R._Shearin@hud.gov; telephone (202) 402-2585. This is not a toll-free number.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: Application for Insurance of Advance of Mortgage Proceeds.

OMB Approval Number: 2502-0097.

Form Numbers: HUD-92403.

Description of the Need for the Information and Its Proposed Use: The application for Insurance of Advance of Mortgage Proceeds, is submitted by mortgagors to request the advance of mortgage proceeds to reimburse the mortgagor for funds expended or obligated for construction related items; and by mortgagees to request mortgage insurance for funds so advanced. HUD transmits the form as its certificate for mortgage insurance for funds it approves for advance.

Frequency of Submission: Quarterly.

| Number of respondents | Annual responses | × | Hours per response | = | Burden hours
Reporting Burden | 33,600 | 16,800 |  | 0.2 |  | 3,360

Total Estimated Burden Hours: 3,360.

Status: Request for extension of an existing information collection.

Authority: The Paperwork Reduction Act of 1995, 44 U.S.C. 35, as amended.

Dated: April 26, 2007.
Frank L. Davis,
General Deputy Assistant Secretary for Housing, Deputy Federal Housing Commissioner.

[FR Doc. E7-8328 Filed 5-1-07; 8:45 am]

BILLING CODE 4210-67-P